DEPARTMENT OF DEFENSE

Office of the Secretary

Submission for OMB Review; Comment Request

ACTION: Notice.

The Department of Defense has submitted to OMB for clearance, the following proposal for collection of information under the provisions of the Paperwork Reduction Act (44 U.S.C. Chapter 35).

Title, Form Number, and OMB Number: Commercial Airlift Review; AMC Form 207; OMB Number 0701-0137.

Type of Request: Reinstatement.

Number of Respondents: 15.

Responses Per Respondent: 1.

Annual Responses: 15.

Average Burden Per Response: 20 hours.

Annual burden Hours: 300.

Needs and Uses: The information collection requirement is necessary to assist the overall evaluation of commercial aircraft to provide quality, safe, and reliable airlift service when procured by the Department of Defense. Respondents are commercial air carriers desiring to supply airlift services to DoD. The AMC Form 207 provides vital information from carriers needed to determine their eligibility to participate in the DoD Air Transportation Program.

Affected Public: Business or other for-profit.

Frequency: On occasion.

Respondent's Obligation: Required to obtain or retain benefits.

OMB Desk Officer: Mr. Edward C. Springer.

Written comments and recommendations on the proposed information collection should be sent to Mr. Springer at the Office of Management and Budget, Desk Officer for DoD, Room 10236, New Executive Office Building, Washington, DC 20503.

DOD Clearance Officer: Mr. Robert Cusing.

Written requests for copies of the information collection proposal should be sent to Mr. Cushing, WHS/DIOR, 1215 Jefferson Davis Highway, Suite 1204, Arlington, VA 22202-4302.

Dated: February 5, 2001.
Patricia L. Toppings,
Alternate OSD Federal Register Liaison Officer, Department of Defense.

[FR Doc. 01-3497 Filed 2-9-01; 8:45 am]

BILLING CODE 5001-10-M